DEPARTMENT OF TRANSPORTATION

Federal Aviation Administration

14 CFR Part 39

[Docket No. 99-NE-31-AD; Amendment 39-13445; AD 2004-03-01]

RIN 2120-AA64

Airworthiness Directives; Air Cruisers Company Emergency Evacuation Slide/Raft System

AGENCY: Federal Aviation Administration (FAA), DOT.

ACTION: Final rule.

SUMMARY: The FAA is superseding an existing airworthiness directive (AD) for a certain Air Cruisers Company Emergency Evacuation Slide/Raft System. That AD currently requires a one-time unpacking and subsequent repacking of the slide/raft systems, identified by basic part number (P/N) with dash numbers, and serial numbers (SNs) listed in the AD, and mandates repacking of all other slide/raft systems of the same design at the next required normal maintenance schedule of the slide/raft system. This AD contains the same requirements but replaces the specific slide/raft system P/N dash numbers with the word “-series”, reduces the number of affected slide/raft systems to the SNs identified in paragraph (g) of the AD, and eliminates mandating the utilization of the applicable Folding Procedures for subsequent repacking of all slide/raft systems of the same design during the normal scheduled maintenance. This AD is prompted by recent information received that Air Cruisers Company has made modifications which have added new dash numbers to the slide/raft system basic P/N. This has affected some of the SN slide/raft systems listed in the AD. We are issuing this AD to prevent failure of the slide/raft to properly inflate, which could impede the emergency evacuation of passengers in the event of an airplane emergency.

DATES: This AD becomes effective March 11, 2004. The Director of the Federal Register approved the incorporation by reference of certain publications listed in the regulations as of March 11, 2004. The incorporation by reference of certain other publications, as listed in the regulations, was approved previously by the Director of the Federal Register as of March 7, 2003 (68 FR 4897; January 31, 2003).

ADDRESSES: You can get the service information identified in this AD from Air Cruisers Company, Technical Publications Department, P.O. Box 180, Belmar, NJ 07719-0180; telephone: (732) 681-3527; fax: (732) 280-8212.

You may examine the AD docket, by appointment, at the FAA, New England Region, Office of the Regional Counsel, 12 New England Executive Park, Burlington, MA. You may examine the service information, by appointment, at the FAA, New England Region, Office of the Regional Counsel, 12 New England Executive Park, Burlington, MA; or at the Office of the Federal Register, 800 North Capitol Street, NW., suite 700, Washington, DC.

FOR FURTHER INFORMATION CONTACT: Leung Lee, Aerospace Engineer, New York Aircraft Certification Office, FAA, Engine and Propeller Directorate, 1600 Stewart Avenue, Suite 410, Westbury, NY 11590; telephone (516) 228-7309; fax (516) 794-5531.

SUPPLEMENTARY INFORMATION: The FAA proposed to amend 14 CFR part 39 with a proposed AD. The proposed AD applies to a certain Air Cruisers Company Emergency Evacuation Slide/Raft System. We published the proposed AD in the Federal Register on July 18, 2003 (68 FR 42647). That action proposed the same requirements as AD 2003-03-11 but replaces the specific slide/raft system P/N dash numbers with the word “-series”, reduces the number of affected slide/raft systems to the SNs identified in paragraph (g) of the proposed AD, and eliminates mandating the utilization of the applicable Folding Procedures for subsequent repacking of all slide/raft systems of the same design during the normal scheduled maintenance.

Comments

We provided the public the opportunity to participate in the development of this AD. We have considered the comments received.

Requests To Update Air Cruisers Folding Procedures to Latest Revision

Two commenters state that the incorporation by reference of Folding Procedures, P-12054 and P12064, both Revision F, dated March 12, 1999, are not the latest revision. One commenter states that they have been folding the slides to the latest revision G, dated February 1, 2002. Both commenters request that the final rule reference Revision G, dated February 1, 2002, or an approved later revision.

The FAA partially agrees. We agree that the AD should reference Revision G of the Folding Procedures, dated February 1, 2002. We revised compliance paragraphs (f)(1), (f)(2), and (g) in the AD to reflect Folding Procedures, P-12054 and P12064, of Revisions G, dated February 1, 2002. We also agree that any slide/raft systems that have already been repacked to Air Cruisers Company Folding Procedures, P-12054 and P12064, of Revision F, dated March 12, 1999, or Revision G, dated February 1, 2002, are considered to be in full compliance with the AD.

We do not agree with changing the AD to reference Revision G, dated February 1, 2002 or an approved later revision. The Administrative Procedures Act requires that all service documents incorporated by reference in ADs be approved and a copy retained by the Office of the Federal Register. A reference to the “later revision” of a service document is a reference to a document that does not yet exist, and therefore, to a service document for which the FAA cannot yet obtain the approval for incorporation by reference. Operators may request an alternate method of compliance (AMOC) to utilize later revisions of the service document as specified in paragraph (j) of this AD.

Agreement With Proposal As Written

One commenter states that the AD creates no greater impact than the original AD and agrees with the proposal as written.

Conclusion

We have carefully reviewed the available data, including the comments received, and determined that air safety and the public interest require adopting the AD as proposed.

Changes to 14 CFR Part 39—Effect on the AD

On July 10, 2002, we issued a new version of 14 CFR part 39 (67 FR 47998, July 22, 2002), which governs the FAA's AD system. That regulation now includes material that relates to altered products, special flight permits, and alternative methods of compliance. The material previously was included in each individual AD. Since the material is included in 14 CFR part 39, we will not include it in future AD actions.

Costs of Compliance

There are approximately 388 slide/raft systems of the affected design in the worldwide fleet. We estimate that 74 slide/raft systems installed on airplanes of U.S. registry would be affected by this AD. We also estimate that it would take approximately 5 work hours per slide/raft system to perform the repacking, and that the average labor rate is $60 per work hour. Based on these figures, the total cost of the AD to U.S. operators is estimated to be $22,200.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 99-NE-31-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13035 (68 FR 4897, January 31, 2003) and by adding a new airworthiness directive, Amendment 39-13445, to read as follows:

2004-03-01 Air Cruisers Company: Amendment 39-13445. Docket No. 99-NE-31-AD. Supersedes AD 2003-03-11, Amendment 39-13035.

Effective Date

(a) This AD becomes effective March 11, 2004.

Affected ADs

(b) This AD supersedes AD 2003-03-11, Amendment 39-13035.

Applicability

(c) This AD applies to all dash numbers of Air Cruisers Company Emergency Evacuation Slide/Raft System, part number (P/N) 62774. These Emergency Evacuation Slide/Raft Systems are installed on, but not limited to Boeing 777-200 and -300 series airplanes.

Unsafe Condition

(d) This AD is prompted by recent information received that Air Cruisers Company has made modifications which have added new dash numbers to the slide/raft system basic P/N. This has affected some of the SN slide/raft systems listed in AD 2003-03-11. In addition, this AD is prompted by the requirement to reduce the number of affected slide/raft systems to only the SNs identified in paragraph (g) of this AD. We are issuing this AD to prevent failure of the slide/raft to properly inflate, which could impede the emergency evacuation of passengers in the event of an airplane emergency.

Compliance

(e) If you have not already performed the actions required by this AD, you must perform the actions within the compliance times specified in this AD.

Repacking

(f) For slide/raft systems that have a SN listed in Table 1 of this AD, do the following: Table 1 follows:

Table 1.—Affected Slide/Raft SNs
0203 | 0207 | 0220 | 0234 | 0235 | 0239 | 0241 | 0245 | 0250 | 0255
0267 | 0277 | 0280 | 0302 | 0305 | 0306 | 0310 | 0312 | 0316 | 0318
0320 | 0330 | 0332 | 0333 | 0335 | 0339 | 0342 | 0343 | 0344 | 0345
0348 | 0349 | 0350 | 0351 | 0354 | 0355 | 0356 | 0358 | 0364 | 0365
0366 | 0368 | 0369 | 0372 | 0373 | 0374 | 0376 | 0378 | 0379 | 0380
0381 | 0384 | 0385 | 0388 | 0389 | 0390 | 0391 | 0392 | 0394 | 0395
0396 | 0397 | 0398 | 0399 | 0402 | 0403 | 0404 | 0406 | 0408 | 0409
0411 | 0413 | 0415 | 0417 | 0418 | 0419 | 0420 | 0421 | 0422 | 0423
0425 | 0426 | 0427 | 0428 | 0429 | 0430 | 0431 | 0433 | 0438 | 0443
0445 | 0455 | 0456

(1) For slide/raft systems currently installed on airplanes, repack the slide/raft system within 2 months after the effective date of this AD in accordance with the Accomplishment Instructions described in Air Cruisers Company SB 777-107-25-06, dated February 19, 1999, and the applicable Air Cruisers Company Folding Procedure P-12054 (for left-hand slide/rafts), Revision G, dated February 1, 2002, or Procedure P-12064 (for right-hand slide/rafts), Revision G, dated February 1, 2002.

(2) For uninstalled slide/raft systems, repack before installation, in accordance with the Accomplishment Instructions described in Air Cruisers Company SB 777-107-25-06, dated February 19, 1999, and the applicable Air Cruisers Company Folding Procedure P-12054 (for left-hand slide/rafts), G, dated February 1, 2002, or Procedure P-12064 (for right-hand slide/rafts), Revision G, dated February 1, 2002.

(g) For slide/raft systems SN 0558 and lower that are not included in Table 1 of this AD, repack the slide/raft systems in accordance with the applicable Air Cruisers Company Folding Procedure P-12054 (for left-hand slide/rafts), Revision G, dated February 1, 2002, or Procedure P-12064 (for right-hand slide/rafts), Revision G, dated February 1, 2002, at the next required normal maintenance schedule of the slide/raft system, but no later than 18 months after the effective date of this AD.

Credit for Previous Repacking

(h) Slide/raft systems with a SN listed in Table 1 or identified in paragraph (g) of this AD that have already been repacked in accordance with Air Cruisers Company Folding Procedures P-12054, Revision F, dated March 12, 1999, or P-12064, Revision F, dated March 12, 1999, as applicable, before the effective date of this AD, are considered in full compliance with the requirements of paragraph (f) or (g) of this AD.

(i) Slide/raft systems with a SN listed in Table 1 or identified in paragraph (g) of this AD that were repacked under AD 2003-11-03 are considered in compliance with the requirements of paragraph (f) or (g) of this AD.

Alternative Methods of Compliance (AMOCs)

(j) You must request AMOCs as specified in 14 CFR 39.19. All AMOCs must be approved by the Manager, New York Aircraft Certification Office, FAA.

Material Incorporated by Reference

(k) You must use the service information listed in Table 2 of this AD to perform the actions required by this AD. The incorporation by reference of Air Cruisers Company SB 777-107-25-06, dated February 19, 1999, was approved by the Director of the Federal Register on March 7, 2003 (68 FR 4897; January 31, 2003). The Director of the Federal Register approved the incorporation by reference of the documents listed in Table 2 of this AD in accordance with 5 U.S.C. 552(a) and 1 CFR part 51. You can get a copy from Air Cruisers Company, Technical Publications Department, PO Box 180, Belmar, NJ 07719-0180; telephone: (732) 681-3527; fax: (732) 280-8212. You can review copies at the FAA, New England Region, Office of the Regional Counsel, 12 New England Executive Park, Burlington, MA; or at the Office of the Federal Register, 800 North Capitol Street, NW., suite 700, Washington, DC. Table 2 follows:

Table 2.—Incorporation by Reference
Document No. | Page Nos. shown on the page | Revision level shown on the page | Date shown on the page
SB 777-107-25-06 | All | Original | February 19, 1999.
Total Pages: 3
Folding procedure P-12054 | All | G | February 1, 2002.
Total Pages: 159
Folding procedure P-12064 | All | G | February 1, 2002.
Total Pages: 159

Related Information

(1) None.

Issued in Burlington, Massachusetts, on January 26, 2004.
Francis A. Favara,
Acting Manager, Engine and Propeller Directorate, Aircraft Certification Service.

[FR Doc. 04-2051 Filed 2-4-04; 8:45 am]

BILLING CODE 4910-13-P